DEPARTMENT OF TRANSPORTATION

Federal Aviation Administration

14 CFR Part 39

[Docket No. FAA-2010-0030; Directorate Identifier 2009-NM-135-AD; Amendment 39-16940; AD 2012-02-17]

RIN 2120-AA64

Airworthiness Directives; The Boeing Company Airplanes

AGENCY: Federal Aviation Administration (FAA), DOT.

ACTION: Final rule.

SUMMARY: We are adopting a new airworthiness directive (AD) for all Model 757 airplanes. This AD was prompted reports that several operators have found cracking in the front spar lower chord at the fastener locations common to the side link support fitting at wing station (WS) 292. This AD requires repetitive inspections for corrosion and cracking in this area, and corrective actions if necessary. We are issuing this AD to detect and correct such corrosion and cracking, which, if not corrected, could grow and result in structural failure of the spar.

DATES: This AD is effective April 4, 2012.

The Director of the Federal Register approved the incorporation by reference of a certain publication listed in the AD as of April 4, 2012.

ADDRESSES: For service information identified in this AD, contact Boeing Commercial Airplanes, Attention: Data & Services Management, P.O. Box 3707, MC 2H-65, Seattle, Washington 98124-2207; telephone 206-544-5000, extension 1; fax 206-766-5680; email me.boecom@boeing.com; Internet https://www.myboeingfleet.com. You may review copies of the referenced service information at the FAA, Transport Airplane Directorate, 1601 Lind Avenue SW., Renton, Washington. For information on the availability of this material at the FAA, call 425-227-1221.

Examining the AD Docket

You may examine the AD docket on the Internet at http://www.regulations.gov; or in person at the Docket Management Facility between 9 a.m. and 5 p.m., Monday through Friday, except Federal holidays. The AD docket contains this AD, the regulatory evaluation, any comments received, and other information. The address for the Docket Office (phone: 800-647-5527) is Document Management Facility, U.S. Department of Transportation, Docket Operations, M-30, West Building Ground Floor, Room W12-140, 1200 New Jersey Avenue SE., Washington, DC 20590.

FOR FURTHER INFORMATION CONTACT: Nancy Marsh, Aerospace Engineer, Airframe Branch, ANM-120S, FAA, Seattle Aircraft Certification Office, 1601 Lind Avenue SW., Renton, Washington 98057-3356; phone: 425-917-6440; fax: 425-917-6590; email: nancy.marsh@faa.gov.

SUPPLEMENTARY INFORMATION:

Discussion

We issued a notice of proposed rulemaking (NPRM) to amend 14 CFR part 39 to include an airworthiness directive (AD) that would apply to the specified products. That NPRM published in the Federal Register on January 22, 2010 (75 FR 3660). That NPRM proposed to require repetitive inspections for corrosion and cracking in the front spar lower chord at the fastener locations common to the side link support fitting at wing station (WS) 292, and corrective actions if necessary.

Actions Since Issuance of NPRM (75 FR 3660, January 22, 2010)

The NPRM (75 FR 3660, January 22, 2010) referred to Boeing Special Attention Service Bulletin 757-57-0065, dated May 14, 2009, as the appropriate source of service information for accomplishing the actions. Since issuance of the NPRM, Boeing has issued Special Attention Service Bulletin 757-57-0065, Revision 1, dated August 1, 2011. No more work is necessary for airplanes on which the original issue was used to accomplish the actions. Certain procedures specified in Revision 1 of this service bulletin have been clarified to provide additional instructions.

We have revised this AD to refer to Boeing Special Attention Service Bulletin 757-57-0065, Revision 1, dated August 1, 2011, as the appropriate source of service information for accomplishing the actions. In addition, we added a new paragraph (i) to this AD (and reidentified subsequent paragraphs accordingly) to give credit for using Boeing Special Attention Service Bulletin 757-57-0065, dated May 14, 2009, for accomplishing the actions.

Comments

We gave the public the opportunity to participate in developing this AD. The following presents the comments received on the proposal and the FAA's response to each comment.

Supportive Comment

Boeing concurred with the content of the NPRM (75 FR 3660, January 22, 2010).

Request To Include Instructions for Airplanes With Unmodified Configurations at the Side Link Fitting

FedEx stated that Figures 2 and 3 of the Boeing Special Attention Service Bulletin 757-57-0065, dated May 14, 2009, show a configuration of the airplane with the modification of the side link fitting accomplished. FedEx added that the procedures in that service information replace the side link fitting and install additional fasteners attaching the fitting to the lower chord. FedEx noted that it is possible to perform the proposed inspections prior to incorporation of the service information; however, for airplanes on which the configuration may not match that provided in the service information, and on which the inspection has not been accomplished, the inspection steps provided may not match the configuration.

We agree that Figures 2 and 3 of Boeing Special Attention Service Bulletin 757-57-0065, dated May 14, 2009, do not include diagrams of different configurations of the side link fitting for airplanes that may currently be in service. However, as specified under “Actions Since Issuance of NPRM,” (75 FR 3660, January 22, 2010) Boeing has issued Special Attention Service Bulletin 757-57-0065, Revision 1, dated August 1, 2011, which clarifies the steps in those figures. In addition, the number of fastener locations specified in the figures was incorrect and they now identify either three or four fastener locations; therefore, we have removed the number “four” preceding the phrase “fastener locations” throughout this AD.

Request To Include FAA-Approved Repair Data

Continental Airlines (CAL) asked that the NPRM (75 FR 3660, January 22, 2010) include a requirement that any repairs must be approved either by the aircraft certification office (ACO) or an FAA-authorized Boeing Organization Designation Authority (ODA) using data that meets the certification basis of the airplane. FedEx stated that if cracks and corrosion are found, the airplane must be repaired prior to further flight; however, the NPRM and the referenced service information do not give repair instructions. FedEx asked that repair instructions be included in or referred to in the proposed AD requirements. FedEx also noted that in the event of findings, Boeing must be contacted for a repair prior to further flight. CAL also stated that if any corrosion or cracking is found, it is required to submit damage data to Boeing and await disposition and proper approval before accomplishing the repair and releasing the airplane. CAL added that this has the possibility of grounding airplanes beyond an acceptable time for operational requirements while the repair parts are obtained.

We agree that if repair data were available as part of the service information, it would allow a quicker return to service for airplanes on which damage is found during the inspections. However, at this time the repair data are not currently available; therefore, the data cannot be included in the AD. We have made no change to the AD in this regard.

Request To Include Repair and Corrosion Limitations

CAL stated that the referenced service information does not include any specified limits for the repair, and added that corrosion limitations and related actions should be included for existing approved crack repairs. CAL noted that Boeing Special Attention Service Bulletin 757-57-0065, dated May 14, 2009, states that several repairs have been accomplished addressing crack lengths to 0.080 inch, and the service history table in the Background section of this service information lists six instances of cracking with pre-existing, pre-approved repairs from Boeing. CAL added that all but one reported instance included oversizing of the discrepant holes and freeze plug installation. CAL believes that these existing repairs should be included either in the service information or the structural repair manual, and subsequently added as repair actions in the proposed AD prior to issuance.

We do not agree that the corrosion limitations and related actions should be included in this AD for existing approved crack repairs. Boeing maintains information related to pre-existing, pre-approved repairs. We have delegated authority to make findings concerning repairs related to this AD to the Boeing Commercial Airplanes ODA. Under the provisions of paragraph (j) of this AD, we will consider requests to accept the use of standard repairs developed by Boeing or the operator if sufficient data are submitted to substantiate that the repair would provide an acceptable level of safety. We have made no change to the AD in this regard.

Request To Extend Compliance Time

European Air Transport and DHL asked that we extend the interval for the repetitive inspections in the NPRM (75 FR 3660, January 22, 2010) to the next 4C check or 12,000 flight cycles from the date of the referenced service information, whichever occurs first. These commenters stated that they are already performing the inspection at the next 4C check and at intervals of 12,000 flight cycles. These commenters added that the fuel tanks are only purged during a 4C check, which has an interval of 12,000 flight cycles, 24,000 flight hours, and 72 months, whichever occurs first. The commenters noted that, if the proposed interval is maintained, the fuel tanks will need to be purged during a 1C or 2C check, and this will create additional downtime and costs for the inspection.

We do not agree with the commenters' request. The repetitive inspection interval was determined using a damage tolerance analysis and is appropriate to adequately address the unsafe condition. Under the provisions of paragraph (j) of this AD, operators may request approval of an alternative method of compliance (AMOC) if sufficient data are submitted to substantiate that the request would provide an acceptable level of safety. We have not changed the AD in this regard.

Request To Supersede Related ADs

FedEx asked that we supersede related AD 2003-18-05, Amendment 39-13296 (68 FR 53496, September 11, 2003); and AD 2004-12-07, Amendment 39-13666 (69 FR 33561, June 16, 2004). FedEx stated that the NPRM (75 FR 3660, January 22, 2010) should be approved as ancillary inspections to these ADs. FedEx added that this would maintain current AD maintenance documents and prevent future misinterpretation of the AD modification and inspection requirements.

We agree that the subject inspections are in the same area as the modifications required by AD 2003-18-05 (68 FR 53496, September 11, 2003) and AD 2004-12-07 (69 FR 33561, June 16, 2004). We also agree that accomplishing the inspections required by this AD could be cited as related actions to the actions included in AD 2003-18-05 and AD 2004-12-07. In the event that those ADs are superseded, this AD could be included as related rulemaking.

The actions required by those ADs (mandating strut modifications) are complex and require compliance times which would not correlate with the compliance times in this AD. Therefore, we do not agree that this AD should supersede AD 2003-18-05 (68 FR 53496, September 11, 2003) and AD 2004-12-07 (69 FR 33561, June 16, 2004). We have not changed the AD in this regard.

Additional Change Made to This Final Rule

We have revised the heading for and wording in paragraph (i) of this AD; this change has not changed the intent of that paragraph.

Conclusion

We reviewed the relevant data, considered the comments received, and determined that air safety and the public interest require adopting the AD with the changes described previously—and minor editorial changes. We have determined that these minor changes:

• Are consistent with the intent that was proposed in the NPRM (75 FR 3660, January 22, 2010) for correcting the unsafe condition; and

• Do not add any additional burden upon the public than was already proposed in the NPRM (75 FR 3660, January 22, 2010).

We also determined that these changes will not increase the economic burden on any operator or increase the scope of the AD.

Explanation of Change to Costs of Compliance

Since issuance of the NPRM (75 FR 3660, January 22, 2010), we have increased the labor rate used in the Costs of Compliance from $80 per work-hour to $85 per work-hour. The Costs of Compliance information, below, reflects this increase in the specified labor rate.

Costs of Compliance

We estimate that this AD affects 668 airplanes of U.S. registry. We also estimate that it will take about 6 work-hours per airplane to comply with this AD. The average labor rate is $85 per work-hour. Based on these figures, we estimate the cost of this AD to the U.S. operators to be $340,680 per inspection cycle, or $510 per airplane, per inspection cycle.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General Requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2012-02-17 The Boeing Company: Amendment 39-16940; Docket No. FAA-2010-0030; Directorate Identifier 2009-NM-135-AD.

(a) Effective Date

This AD is effective April 4, 2012.

(b) Affected ADs

None.

(c) Applicability

This AD applies to all The Boeing Company Model 757-200, -200PF, -200CB, and -300 series airplanes, certificated in any category.

(d) Subject

Air Transport Association (ATA) of America Code 57: Wings.

(e) Unsafe Condition

This AD results from reports of cracking at the front spar lower chord at the fastener locations common to the side link support fitting at wing station (WS) 292. The Federal Aviation Administration is issuing this AD to detect and correct such cracking and corrosion, which, if not corrected, could grow and result in structural failure of the spar.

(f) Compliance

You are responsible for having the actions required by this AD performed within the compliance times specified, unless the actions have already been done.

(g) Inspect for Cracking and Corrosion

At the later of the times in paragraphs (g)(1) and (g)(2) of this AD, do ultrasonic and general visual inspections for cracking and corrosion of the front spar lower chord at the fastener locations common to the side link support fitting at WS 292, in accordance with the Accomplishment Instructions of Boeing Special Attention Service Bulletin 757-57-0065, Revision 1, dated August 1, 2011. Where Boeing Special Attention Service Bulletin 757-57-0065, Revision 1, dated August 1, 2011, specifies a compliance time “after the date on this service bulletin,” this AD requires compliance at the specified time after the effective date of this AD. Repeat the inspection thereafter at intervals not to exceed 12,000 flight cycles.

(1) At the applicable time specified in paragraph 1.E., “Compliance,” of Boeing Special Attention Service Bulletin 757-57-0065, Revision 1, dated August 1, 2011.

(2) Within 12,000 flight cycles after doing the modification of the nacelle and wing structure specified in Boeing Service Bulletin 757-54-0034 or Boeing Service Bulletin 757-54-0035.

(h) Corrective Action

If any cracking or corrosion is found during any inspection required by this AD: Before further flight, repair the cracking or corrosion using a method approved in accordance with the procedures specified in paragraph (j) of this AD.

(i) Credit for Previous Actions

This paragraph provides credit for actions required by this AD if those actions were performed before the effective date of this AD using Boeing Special Attention Service Bulletin 757-57-0065, dated May 14, 2009.

(j) Alternative Methods of Compliance (AMOCs)

(1) The Manager, Seattle Aircraft Certification Office (ACO), FAA, has the authority to approve AMOCs for this AD, if requested using the procedures found in 14 CFR 39.19. In accordance with 14 CFR 39.19, send your request to your principal inspector or local Flight Standards District Office, as appropriate. Send information to ATTN: Nancy Marsh, Aerospace Engineer, Airframe Branch, ANM-120S, FAA, Seattle Aircraft Certification Office, 1601 Lind Avenue SW., Renton, Washington 98057-3356; phone: 425-917-6440; fax: 425-917-6590; email: nancy.marsh@faa.gov.

(2) Before using any approved AMOC, notify your appropriate principal inspector, or lacking a principal inspector, the manager of the local flight standards district office/certificate holding district office.

(3) An AMOC that provides an acceptable level of safety may be used for any repair required by this AD if it is approved by the Boeing Commercial Airplanes Organization Designation Authorization (ODA) that has been authorized by the Manager, Seattle ACO, to make those findings. For a repair method to be approved, the repair must meet the certification basis of the airplane.

(k) Material Incorporated by Reference

(1) You must use the following service information to do the actions required by this AD, unless the AD specifies otherwise. The Director of the Federal Register approved the incorporation by reference (IBR) under 5 U.S.C. 552(a) and 1 CFR part 51 of the following service information

(i) You must use Boeing Special Attention Service Bulletin 757-57-0065, Revision 1, dated August 1, 2011; to do the actions required by this AD, unless the AD specifies otherwise.

(2) For service information identified in this AD, contact Boeing Commercial Airplanes, Attention: Data & Services Management, P.O. Box 3707, MC 2H-65, Seattle, WA 98124-2207; telephone 206-544-5000, extension 1; fax 206-766-5680; email me.boecom@boeing.com; Internet https://www.myboeingfleet.com.

(3) You may review copies of the service information at the FAA, Transport Airplane Directorate, 1601 Lind Avenue SW., Renton, Washington 98057-3356. For information on the availability of this material at the FAA, call 425-227-1221.

(4) You may also review copies of the service information that is incorporated by reference at the National Archives and Records Administration (NARA). For information on the availability of this material at an NARA facility, call 202-741-6030, or go to http://www.archives.gov/federal_register/code_of_federal_regulations/ibr_locations.html.

Issued in Renton, Washington, on January 24, 2012.
Kalene C. Yanamura,
Acting Manager, Transport Airplane Directorate, Aircraft Certification Service.

[FR Doc. 2012-4429 Filed 2-28-12; 8:45 am]

BILLING CODE 4910-13-P